DEPARTMENT OF THE INTERIOR

Bureau of Land Management

43 CFR Parts 3600, 3610, 3620, and 3800

[WO-320-1430-PB-24 1A]

RIN: 1004-AD29

Mineral Materials Disposal; Sales; Free Use; Correction

AGENCY: Bureau of Land Management, Interior.

ACTION: Final rule; correction.

SUMMARY: The Bureau of Land Management (BLM) published in the Federal Register of November 23, 2001, a final rule revising the regulations on Mineral Materials Disposal. The final rule inadvertently contained an incorrect effective date.

EFFECTIVE DATES: The effective date of the final rule published on November 23, 2001 (66 FR 58892), is corrected to read January 22, 2002.

FOR FURTHER INFORMATION CONTACT: Ted Hudson, Federal Register Liaison Officer, at (202) 452-5042. Persons who use a telecommunications device for the deaf (TDD) may call the Federal Information Relay Service (FIRS) at 1-800-877-8339, 24 hours a day, 7 days a week.

SUPPLEMENTARY INFORMATION: On November 23, 2001, BLM published a final rule in the Federal Register (66 FR 58892) revising the regulations on Mineral Materials Disposal in 43 CFR part 3600. In FR Doc. 01-29001, we stated the wrong effective date in the first column of page 58892. The effective date should have been 60 days after the date of publication, or January 22, 2002.

Dated: November 26, 2001.
Michael H. Schwartz,
Group Manager, Regulatory Affairs.

[FR Doc. 01-30231 Filed 12-5-01; 8:45 am]

BILLING CODE 4310-84-P